DEPARTMENT OF THE INTERIOR

National Park Service

[NPS-WASO-NAGPRA-19342; PPWOCRADN0-PCU00RP14.R50000]

Notice of Inventory Completion: Pejepscot Historical Society, Brunswick, ME

AGENCY: National Park Service, Interior.

ACTION: Notice.

SUMMARY: The Pejepscot Historical Society has completed an inventory of human remains in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Pejepscot Historical Society. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Pejepscot Historical Society at the address in this notice by November 16, 2015.

ADDRESSES: Jennifer Blanchard, Executive Director, Pejepscot Historical Society, 159 Park Row, Brunswick, ME 04011, telephone (207) 729-6606, email director@pejepscothistorical.org.

SUPPLEMENTARY INFORMATION: Notice is here given in accordance with the Native American Graves Protection and Repatriation Act (NAGPRA), 25 U.S.C. 3003, of the completion of an inventory of human remains under the control of the Pejepscot Historical Society. The human remains are anecdotally reported to have been removed from Camp Apache in Arizona.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made in 1995 by the Pejepscot Historical Society professional staff who invited consultation from representatives of the Jicarilla Apache Nation, New Mexico; Mescalero Apache Tribe of the Mescalero Reservation, New Mexico; Tonto Apache Tribe of Arizona; White Mountain Apache Tribe of the Fort Apache Reservation, Arizona; and the following non-federally recognized Indian groups: Apache Business Committee, Anadarko, OK; Fort Sill, Apache Business Committee, Apache, OK; Mojave Apache Community Council, Fountain Hills, AZ; Yazapai-Apache Community Council, Camp Verdi, AZ.

History and Description of the Remains

On an unknown date, human remains of, at minimum, 2 individuals, were removed from an unknown location. Anecdotal evidence suggests that these remains were Apache, taken by an “Indian scout” from Camp Apache in 1879. No proof of this evidence exists beyond an exhibit label. No known individuals were identified. No associated funerary objects are present.

The entirety of our evidence is an unsubstantiated exhibit label that reads: “Taken from the scalp of an Apache Indian who was killed and scalped July 30, 1879 by Indian scouts about 20 miles from Camp Apache.” The items are catalogued as “on hand,” meaning they were found in the society's collections when it began formal cataloguing of its collection.

Determinations Made by the Pejepscot Historical Society

Officials of the Pejepscot Historical Society have determined that:

• Pursuant to 25 U.S.C. 3001(9), the human remains described in this notice represent the physical remains of 2 individuals of Native American ancestry.

• Pursuant to 25 U.S.C. 3001(2), there is a relationship of shared group identity that could be potentially traced between the Native American human remains and the Jicarilla Apache Nation, New Mexico; Mescalero Apache Tribe of the Mescalero Reservation, New Mexico; Tonto Apache Tribe of Arizona; White Mountain Apache Tribe of the Fort Apache Reservation, Arizona; and the following non-federally recognized Indian groups: Apache Business Committee, Anadarko, OK; Fort Sill, Apache Business Committee, Apache, OK; Mojave Apache Community Council, Fountain Hills, AZ; Yazapai-Apache Community Council, Camp Verdi, AZ.

Additional Requestors and Disposition

Lineal descendants or representatives of any Indian tribe or Native Hawaiian organization not identified in this notice that wish to request transfer of control of these human remains should submit a written request with information in support of the request to Jennifer Blanchard, Executive Director, Pejepscot Historical Society, 159 Park Row, Brunswick, ME 04011, telephone (207) 729-6606, email director@pejepscothistorical.org, by November 16, 2015. After that date, if no additional requestors have come forward, transfer of control of the human remains to the Jicarilla Apache Nation, New Mexico; Mescalero Apache Tribe of the Mescalero Reservation, New Mexico; Tonto Apache Tribe of Arizona; White Mountain Apache Tribe of the Fort Apache Reservation, Arizona; and the following non-federally recognized Indian groups: Apache Business Committee, Anadarko, OK; Fort Sill, Apache Business Committee, Apache, OK; Mojave Apache Community Council, Fountain Hills, AZ; Yazapai-Apache Community Council, Camp Verdi, AZ, may proceed.

The Pejepscot Historical Society is responsible for notifying the Jicarilla Apache Nation, New Mexico; Mescalero Apache Tribe of the Mescalero Reservation, New Mexico; Tonto Apache Tribe of Arizona; White Mountain Apache Tribe of the Fort Apache Reservation, Arizona; and the following non-federally recognized Indian groups: Apache Business Committee, Anadarko, OK; Fort Sill, Apache Business Committee, Apache, OK; Mojave Apache Community Council, Fountain Hills, AZ; Yazapai-Apache Community Council, Camp Verdi, AZ that this notice has been published.

Dated: September 16, 2015.
Melanie O'Brien,
Manager, National NAGPRA Program.

[FR Doc. 2015-26291 Filed 10-14-15; 8:45 am]

BILLING CODE 4312-50-P